DEPARTMENT OF ENERGY

Federal Energy Regulatory Commission

Combined Notice of Filings

Take notice that the Commission has received the following Natural Gas Pipeline Rate and Refund Report filings:

Filings Instituting Proceedings

Docket Numbers: CP22-7-000.

Applicants:Southern Natural Gas Company.

Description:Application for Authorization of Abandonment for Rate Schedule X-54 of Southern Natural Gas Company, L.L.C. under CP22-7. Application/Petition/Request | Abandonment of Service or Facility.

Filed Date: 10/12/21.

Accession Number: 20211012-5650.

Comment Date: 5 p.m. ET 11/2/21.

Docket Numbers: CP22-8-000.

Applicants: Southern Natural Gas.

Description: Application for Authorization to Abandon Services of Southern Natural Gas Company, L.L.C. under CP22-8. Application/Petition/Request | Abandonment of Service or Facility.

Filed Date: 10/19/2021.

Accession Number: 20211019-5038.

Comment Date: 5 p.m. ET 11/9/21.

Docket Numbers: RP22-78-000.

Applicants: Shell Energy North America (US), L.P., ConocoPhillips Company.

Description: Joint Petition for Limited Waiver of Capacity Release Regulations, et al. of Shell Energy North America (US), L.P., et al.

Filed Date: 10/22/21.

Accession Number: 20211022-5091.

Comment Date: 5 p.m. ET 11/3/21.

Docket Numbers: RP22-79-000.

Applicants: Questar Southern Trails Pipeline Company.

Description: Tariff Amendment: Cancellation of FERC Gas Tariff First Revised Volume No. 1 to be effective 11/1/2021.

Filed Date: 10/25/21.

Accession Number: 20211025-5035.

Comment Date: 5 p.m. ET 11/1/21.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

Filings in Existing Proceedings

Docket Numbers: RP20-1060-004.

Applicants: Columbia Gas Transmission, LLC.

Description: Compliance filing: Implement Partial Settlement in RP20-1060-000 to be effective 10/8/2021.

Filed Date: 10/22/21.

Accession Number: 20211022-5087.

Comment Date: 5 p.m. ET 11/3/21.

Any person desiring to protest in any the above proceedings must file in accordance with Rule 211 of the Commission's Regulations (18 CFR 385.211) on or before 5:00 p.m. Eastern time on the specified comment date.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 25, 2021.
Debbie-Anne A. Reese,
Deputy Secretary.

[FR Doc. 2021-23625 Filed 10-28-21; 8:45 am]

BILLING CODE 6717-01-P